INTERNATIONAL TRADE COMMISSION

[Investigation No. 332-575]

Seafood Obtained via Illegal, Unreported, and Unregulated Fishing: U.S. Imports and Economic Impact on U.S. Commercial Fisheries; Institution of Investigation and Scheduling of Hearing

AGENCY: United States International Trade Commission.

ACTION: Notice of investigation and scheduling of a public hearing.

SUMMARY: Following receipt of a request dated December 19, 2019 from the U.S. House of Representatives, Committee on Ways and Means (Committee) under section 332(g) of the Tariff Act of 1930, the U.S. International Trade Commission (Commission) instituted investigation No. 332-575: Seafood Obtained via Illegal, Unreported, and Unregulated Fishing: U.S. Imports and Economic Impact on U.S. Commercial Fisheries.

DATES: April 21, 2020: Deadline for filing requests to appear at the public hearing.

April 30, 2020: Deadline for filing pre-hearing briefs and statements.

May 12, 2020: Public hearing.

May 22, 2020: Deadline for filing post-hearing briefs and statements.

June 26, 2020: Deadline for filing all other written submissions.

December 21, 2020: Transmittal of Commission report to the Committee.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov/edis3-internal/app.

FOR FURTHER INFORMATION CONTACT: Project Leader Renee Berry (202-205-3498 or renee.berry@usitc.gov) or Deputy Project Leader Daniel Matthews (202-205-5991 or daniel.matthews@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (http://www.usitc.gov). Persons with mobility impairments who will need special assistance in gaining access to the Commission should contact the Office of the Secretary at 202-205-2000.

Background: As requested by the Committee, the investigation will cover the extent to which seafood products obtained from illegal, unreported, and unregulated (IUU) fishing are imported into the United States and the potential economic effects on U.S. fishermen of competition with such imports. IUU seafood includes products obtained in contravention of fisheries management regulations or in violation of labor laws. The Commission's report will provide to the extent practicable:

• A review of the existing data and literature on the prevalence of IUU products in the U.S. import market, and an overview of international mechanisms for monitoring and enforcement to address IUU fishing;

• A description of the size and structure of the U.S. commercial fishing industry;

• A description of the major global producers of IUU products, including but not limited to China, and country practices related to IUU production and exports.

• An analysis of the extent to which IUU product is imported into the United States, as well as major U.S. import sources and the global supply chains of such products; and

• A quantitative analysis of the economic impact of IUU imports on U.S. commercial fishermen and U.S. commercial fishing production, trade, and prices.

The Committee asked that the Commission transmit its report not later than 12 months after receipt of the request, and the Commission will transmit its report by December 21, 2020. The Committee also stated that it intends to make the Commission's report available to the public in its entirety and asked that the report not include any confidential business information.

Public Hearing: A public hearing in connection with this investigation will be held at the U.S. International Trade Commission Building, 500 E Street SW, Washington, DC, beginning at 9:30 a.m. on May 12, 2020. Requests to appear at the public hearing should be filed with the Secretary, no later than 5:15 p.m., April 21, 2020 in accordance with the requirements in the “Submissions” section below. All pre-hearing briefs and statements should be filed no later than 5:15 p.m., April 30, 2020; and all post-hearing briefs and statements should be filed not later than 5:15 p.m., May 22, 2020. In the event that, as of the close of business on April 28, 2020, no witnesses are scheduled to appear at the hearing, the hearing will be canceled. Any person interested in attending the hearing as an observer or nonparticipant should contact the Office of the Secretary at 202-205-2000 after April 28, 2020, for information concerning whether the hearing will be held.

Written Submissions: In lieu of or in addition to participating in the hearing, interested parties are invited to file written submissions concerning this investigation. All written submissions should be addressed to the Secretary, and should be received not later than 5:15 p.m., June 26, 2020. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraphs for further information regarding confidential business information). Persons with questions regarding electronic filing should contact the Office of the Secretary, Docket Services Division (202-205-1802).

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in the report that it sends to the Committee or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons in an appendix to the report. Persons wishing to have a summary of their position included in the report should include a summary with their written submission, titled “Public Summary,” and should mark the summary as having been provided for that purpose. The summary may not exceed 500 words, should be in a format that can be easily converted to MS Word, and should not include any confidential business information. The summary will be published as provided if it meets these requirements and is germane to the subject matter of the investigation. The Commission will identify the name of the organization furnishing the summary and will include a link to the Commission's Electronic Document Information System (EDIS) where the full written submission can be found.

By order of the Commission.
Issued: January 27, 2020.
Katherine Hiner,
Supervisory Attorney.

[FR Doc. 2020-01799 Filed 1-30-20; 8:45 am]

BILLING CODE 7020-02-P